INTERNATIONAL TRADE COMMISSION

[Investigation No. 337-TA-1253]

Certain LTE-Compliant Cellular Communication Devices; Commission Determination Not To Review an Initial Determination Granting Complainant's Motion To Terminate the Investigation Based on Withdrawal of the Complaint Allegations; Termination of the Investigation

AGENCY: U.S. International Trade Commission.

ACTION: Notice.

SUMMARY: Notice is hereby given that the U.S. International Trade Commission has determined not to review an initial determination (“ID”) (Order No. 36) of the presiding Administrative Law Judge (“ALJ”) granting complainant's motion to terminate the investigation in its entirety based on withdrawal of the complaint allegations.

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On March 8, 2021, the Commission instituted this investigation under section 337 of the Tariff Act of 1930, as amended, 19 U.S.C. 1337 (“section 337”), based on a complaint filed by Evolved Wireless, LLC of Austin, Texas (“Evolved”). 86 FR 13399-400 (Mar. 8, 2021). The complaint alleged a violation of section 337 in the importation into the United States, the sale for importation, or the sale within the United States after importation of certain LTE-compliant cellular communication devices by reason of infringement of certain claims of U.S. Patent Nos. RE46,679; RE48,326 (“the '326 patent”); and 10,517,120 (“the '120 patent”). The complaint also alleged the existence of a domestic industry. The notice of investigation named Samsung Electronics Co., Ltd. of Gyeonngi-Do, Republic of Korea; Samsung Electronics America, Inc. of Ridgefield Park, New Jersey; and Motorola Mobility LLC of Chicago, Illinois as respondents. Id. at 13400. The Commission's Office of Unfair Import Investigations was also named as a party in this investigation. Id. Subsequently, the Commission terminated all asserted claims of the '120 patent and claims 19 and 20 of the '326 patent from the investigation by reason of withdrawal of the complaint allegations. Order No. 15 (Aug. 26, 2021), unreviewed by Notice (Sep. 24, 2021); Order No. 26 (Dec. 3, 2021), unreviewed by Notice (Dec. 20, 2021).

On January 13, 2022, complainant Evolved filed an unopposed motion to terminate this investigation by reason of withdrawal of complaint allegations under Commission Rule 210.21(a), 19 CFR 210.21(a). On January 19, 2022, the Commission investigative attorney filed a contingent statement of support of the motion.

On January 31, 2022, the ALJ issued the subject ID (Order No. 36) granting complainant's motion. The ID finds that there are no extraordinary circumstances that would prevent the requested termination of this investigation. The ID also finds Evolved has complied with the requirements of Commission Rule 210.21(a). No party petitioned for review of the ID.

The Commission has determined not to review the subject ID. The investigation is terminated in its entirety.

The Commission vote for this determination took place on February 22, 2022.

The authority for the Commission's determination is contained in section 337 of the Tariff Act of 1930, as amended, 19 U.S.C. 1337, and in Part 210 of the Commission's Rules of Practice and Procedure, 19 CFR part 210.

By order of the Commission.
Issued: February 22, 2022.
Lisa Barton,
Secretary to the Commission.

[FR Doc. 2022-04097 Filed 2-25-22; 8:45 am]

BILLING CODE 7020-02-P